CONSUMER PRODUCT SAFETY COMMISSION

[Docket No. CPSC-2009-0064]

Agency Information Collection Activities; Proposed Collection; Comment Request; Safety Standard for Infant Bath Seats

AGENCY: Consumer Product Safety Commission.

ACTION: Notice.

SUMMARY: The Consumer Product Safety Commission (CPSC) is announcing an opportunity for public comment on the proposed collection of certain information by the agency. Under the Paperwork Reduction Act of 1995 (the PRA), Federal agencies are required to publish notice in the Federal Register concerning each proposed collection of information, and to allow 60 days for public comment in response to the notice. This notice solicits comments on the burden estimates for the marking and instructional literature requirements in the Safety Standard for Infant Bath Seats.

DATES: Submit written or electronic comments on the collection of information by August 2, 2010.

ADDRESSES: You may submit comments, identified by Docket No. CPSC-2009-0064, by any of the following methods:

Electronic Submissions

Submit electronic comments in the following way:

Federal eRulemaking Portal: http://www.regulations.gov. Follow the instructions for submitting comments.

To ensure timely processing of comments, the Commission is no longer accepting comments submitted by electronic mail (e-mail) except through http://www.regulations.gov.

Written Submissions

Submit written submissions in the following way:

Mail/Hand delivery/Courier (for paper, disk, or CD-ROM submissions), preferably in five copies, to: Office of the Secretary, Consumer Product Safety Commission, Room 502, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov.

FOR FURTHER INFORMATION CONTACT: Patricia Edwards, Project Manager, Directorate for Engineering Sciences, Consumer Product Safety Commission, 4330 East West Highway, Bethesda, MD 20814; telephone (301) 504-7577; pedwards@cpsc.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information before submitting the collection to OMB for approval. To comply with this requirement, the CPSC is publishing notice of the proposed collection of information set forth in this document.

With respect to the following collection of information, the CPSC invites comments on these topics: (1) Whether the proposed collection of information is necessary for the proper performance of CPSC's functions, including whether the information will have practical utility; (2) the accuracy of CPSC's estimate of the burden of the proposed collection of information, including the validity of the methodology and assumptions used; (3) ways to enhance the quality, utility, and clarity of the information to be collected; and (4) ways to minimize the burden of the collection of information on respondents, including through the use of automated collection techniques, when appropriate, and other forms of information technology.

Title: Safety Standard for Infant Bath Seats—16 CFR 1215

Description: The rule would require each infant bath seat to comply with ASTM F 1967-08a, Standard Consumer Safety Specification for Infant Bath Seats.” Sections 8 and 9 of ASTM F 1967-08a contain requirements for marking and instructional literature.

We estimate the burden of this collection of information as follows:

Table 1—Estimated Annual Reporting Burden
16 CFR section | Number of respondents | Frequency of responses | Total annual responses | Hours per response | Total burden hours
1215.2(a) | 2 | 1 | 2 | 0.5 | 1

There are no capital costs or operating and maintenance costs associated with this collection of information.

Our estimates are based on the following:

Proposed 16 CFR 1215.2(a) would require each infant bath seat to comply with ASTM F 1967-08a. Sections 8 and 9 of ASTM F 1967-08a contain requirements for marking and instructional literature that are disclosure requirements, thus falling within the definition of “collections of information” at 5 CFR 1320.3(c).

Section 8.6.1 of ASTM F 1967-08a requires that the name and “either the place of business (city, State, and mailing address, including zip code) or telephone number, or both” of the manufacturer, distributor, or seller be clearly and legibly marked on “each product and its retail package.” Section 8.6.2 of ASTM F 1967-08a requires that “a code mark or other means that identifies the date (month and year as a minimum) of manufacture” be clearly and legibly marked on “each product and its retail package.” In both cases, the information must be placed on both the product and the retail package.

There are three known firms supplying bath seats to the United States market. One of the three firms is known to already produce labels that comply with sections 8.6.1 and 8.6.2 of the standard, so there would be no additional burden on this firm. The remaining two firms are assumed to already use labels on both their products and their packaging, but might need to make some modifications to their existing labels. The estimated time required to make these modifications is about 30 minutes per model. Each of these firms supplies an average of one model of infant bath seat, therefore, the estimated burden hours associated with labels is 30 minutes × 2 firms × 1 model per firm = 60 minutes or 1 annual hour.

The Commission estimates that hourly compensation for the time required to create and update labels is $27.78 (Bureau of Labor Statistics, September 2009, all workers, goods-producing industries, Sales and office, Table 9). Therefore, the estimated annual cost associated with the Commission-recommended labeling requirements is approximately $27.78.

Section 9.1 of ASTM F 1967-08a requires instructions to be supplied with the product. Infant bath seats are products that generally require some installation and maintenance, and products sold without such information would not be able to successfully compete with products supplying this information. Under OMB's regulations (5 CFR 1320.3(b)(2)), the time, effort, and financial resources necessary to comply with a collection of information that would be incurred by persons in the “normal course of their activities” are excluded from a burden estimate where an agency demonstrates that the disclosure activities needed to comply are “usual and customary.” Therefore, because the CPSC is unaware of infant bath seats that: (a) Generally require some installation, but (b) lack any instructions to the user about such installation, we tentatively estimate that there are no burden hours associated with the instruction requirement in section 9.1 of ASTM F 1967-08a because any burden associated with supplying instructions with an infant bath seat would be “usual and customary” and not within the definition of “burden” under OMB's regulations.

Based on this analysis, the requirements of the bath seat rule would impose a burden to industry of 1 hour at a cost of $27.78.

Dated: May 25, 2010.
Todd Stevenson,
Secretary, U.S. Consumer Product Safety Commission.

[FR Doc. 2010-13087 Filed 6-1-10; 8:45 am]

BILLING CODE 6355-01-P